DEPARTMENT OF TRANSPORTATION

Federal Aviation Administration

14 CFR Part 39

[Docket No. FAA-2014-0646; Directorate Identifier 2013-SW-053-AD]

RIN 2120-AA64

Airworthiness Directives; Airbus Helicopters, Inc. (Previously Eurocopter France) Helicopters

AGENCY: Federal Aviation Administration (FAA), DOT.

ACTION: Notice of proposed rulemaking (NPRM).

SUMMARY: We propose to adopt a new airworthiness directive (AD) for Airbus Helicopters, Inc. (previously Eurocopter France) Model AS355E, AS355F, AS355F1, and AS355F2 helicopters with a Fueltron flowmeter installed. This proposed AD would require removing each flowmeter, replacing the fuel system hoses, and disabling the electrical connections for the flowmeter installation. This proposed AD is prompted by a report of particle contamination creating an obstruction in a flowmeter which resulted in an uncontrolled flame-out of the engine. The proposed actions are intended to prevent obstruction of the fuel supply to the flowmeter, which could result in engine flame-out and subsequent loss of control of the helicopter.

DATES: We must receive comments on this proposed AD by November 14, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: James Blyn, Aviation Safety Engineer, Regulations and Policy Group, Rotorcraft Directorate, FAA, 2601 Meacham Blvd., Fort Worth, Texas 76137; telephone (817) 222-5110; email james.blyn@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0205, dated September 9, 2013, to correct an unsafe condition for Eurocopter (now Airbus Helicopters, Inc.) Model AS355 E, AS355 F, AS355 F1, and AS355 F2 helicopters with modification 350A070791 (installation of the Fueltron flowmeter), except helicopters with modification 355A085801 (removal of the Fueltron flowmeter). EASA advises that, after landing, an AS355 helicopter experienced an uncontrolled flame-out of the No. 1 engine. Following an analysis, EASA states that particle contamination in the fuel had obstructed the Fueltron flowmeter because the cross-section areas of the passages in the flowmeter are smaller than the mesh in the upstream fuel pump strainer, allowing particles to pass through the strainer and into the flowmeter. EASA further states that the flowmeter installation is identical on both engines, and that this condition could lead to flame-out of both engines in flight, possibly resulting in reduced control of the helicopter. EASA AD No. 2013-0205 requires removing the flowmeter from each engine, modifying the fuel line system with a new fuel line part number (P/N) 704A34-416-029 for the left-hand (LH) engine and P/N 704A34-416-030 for the right-hand (RH) engine, removing the flowmeter indicator, and disabling the flowmeter electrical connections.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other helicopters of the same type design.

Related Service Information

Eurocopter has issued Alert Service Bulletin (ASB) No. AS355-28.00.20, Revision 0, dated June 6, 2013, for Model AS355 E, AS355 F, AS355 F1, and AS355 F2 helicopters, which describes procedures for removing and disabling the Fueltron flowmeter installation. The ASB corresponds to Eurocopter modification 355A085801.

Proposed AD Requirements

This proposed AD would require, within 750 hours time-in-service, removing the flowmeter from each engine, replacing the fuel line with P/N 704A34-416-029 for the LH engine and P/N 704A34-416-030 for the RH engine, removing the flowmeter indicator, and disabling the flowmeter electrical connections by complying with certain procedures in ASB No. AS355-28.00.20.

Interim Action

We consider this proposed AD to be an interim action. The design approval holder is currently developing a modification that will address the unsafe condition identified in this AD. Once this modification is developed, approved, and available, we might consider additional rulemaking.

Costs of Compliance

We estimate that this proposed AD would affect 47 helicopters of U.S. Registry. We estimate that operators would incur the following costs in order to comply with this AD. At an average labor rate of $85 per work-hour, removing the flowmeter installation would require about 4 work-hours, and required parts would cost $1,600, for a cost per helicopter of $1,940 and a total cost of $91,180 for the fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters, Inc. (Previously Eurocopter France) Helicopters: Docket No. FAA-2014-0646; Directorate Identifier 2013-SW-053-AD.

(a) Applicability

This AD applies to Airbus Helicopters, Inc. Model AS355E, AS355F, AS355F1, and AS355F2 helicopters, certificated in any category, with a Fueltron flowmeter part number (P/N) 704A37-670-001 installed.

(b) Unsafe Condition

This AD defines the unsafe condition as obstruction of the fuel supply to the flowmeter, which could result in engine shutdown and subsequent loss of control of the helicopter.

(c) Comments Due Date

We must receive comments by November 14, 2014.

(d) Compliance

You are responsible for performing each action required by this AD within the specified compliance time unless it has already been accomplished prior to that time.

(e) Required Actions

(1) Within 750 hours time-in-service:

(i) Remove each flowmeter.

(ii) Remove each left-hand hose, P/N 704A34.4160.31, and install hose, P/N 704A34-416-029, as depicted in Figures 1 and 2 of Eurocopter Alert Service Bulletin No. AS355-28.00.20, Revision 0, dated June 6, 2013 (ASB AS355-28.00.20).

(iii) Remove each right-hand hose, P/N 704A34.4160.32, and install hose, P/N 704A34-416-030, as depicted in Figures 1 and 2 of ASB AS355-28.00.20.

(iv) Remove each flowmeter indicator and disable the flowmeter wiring as described in the Accomplishment Instructions, paragraph 3.B.2.b., of ASB AS355-28.00.20.

(2) After the effective date of this AD, do not install a flowmeter, P/N 704A37-670-001, on any helicopter.

(f) Special Flight Permit

Special flight permits are prohibited.

(g) Alternative Methods of Compliance (AMOCs)

(1) The Manager, Regulations and Policy Group, FAA, may approve AMOCs for this AD. Send your proposal to: James Blyn, Aviation Safety Engineer, Regulations and Policy Group, Rotorcraft Directorate, FAA, 2601 Meacham Blvd., Fort Worth, Texas 76137; telephone (817) 222-5110; email james.blyn@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in European Aviation Safety Agency (EASA) AD 2013-0205, dated September 9, 2013. You may view the EASA AD on the Internet at http://www.regulations.gov in Docket No. FAA-2014-0646.

(i) Subject

Joint Aircraft Service Component (JASC) Code: 7333: Fuel Flow Sensor.

Issued in Fort Worth, Texas, on September 2, 2014.
Lance T. Gant,
Acting Directorate Manager, Rotorcraft Directorate, Aircraft Certification Service.

[FR Doc. 2014-21921 Filed 9-12-14; 8:45 am]

BILLING CODE 4910-13-P